DEPARTMENT OF HEALTH AND HUMAN SERVICES

Administration for Children and Families

Submission for OMB Review; Prevention Services Data Collection (New Collection)

AGENCY: Children's Bureau; Administration for Children and Families; HHS.

ACTION: Request for public comment.

SUMMARY: The Children's Bureau (CB), Administration for Children and Families (ACF), U.S. Department of Health and Human Services, is proposing to collect data for a new prevention services data collection for children receiving prevention and family services and programs.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: Section 471(e)(4)(E) of the Social Security Act (42 U.S.C. 671) as amended by Public Law 115-123 requires states and tribal child welfare agencies to collect and report to ACF information on children receiving prevention and family services and programs. States and tribes must report:

• The specific services or programs provided,

• The total expenditures for each of the services or programs provided,

• The duration of the services or programs provided, and

• If the child was identified in a prevention plan as a candidate for foster care:

○ The child's placement status at the beginning and at the end, of the 12 month period that begins on the date the child was identified as a candidate for foster care in a prevention plan; and

○ Whether the child entered foster care during the initial 12 month period and during the subsequent 12 month period.

We have prepared a revised instrument (Technical Bulletin #1) that provides more detail regarding the specific file content and structure and data elements states and tribes will be required to provide. In addition, we have revised the number of annual response from one to two.

Respondents: State and tribal child welfare agencies.

Annual Burden Estimates
Instrument | Total number of respondents | Annual number of responses | Average burden hours per response | Annual burden hours
Prevention Services Data Collection | 20 | 2 | 31 | 1,240

Estimated Total Annual Burden Hours: 1,240.

Authority: 42 U.S.C 671.

Mary B. Jones,
ACF/OPRE Certifying Officer.

[FR Doc. 2019-10336 Filed 5-17-19; 8:45 am]

BILLING CODE 4184-25-P